DEPARTMENT OF THE INTERIOR

National Park Service

Record of Decision; Final Environmental Impact Statement General Management Plan; Zion National Park; Utah

Introduction

The Department of the Interior, National Park Service (NPS), has prepared this Record of Decision (ROD) on the Final General Management Plan/Environmental Impact Statement for Zion National Park, Utah. This ROD includes a statement of the decision made, synopses of other alternatives considered, the basis for the decision, a description of the environmentally preferable alternative, a discussion of impairment of park resources or values, a listing of measures to minimize environmental harm, and an overview of public involvement in the decision-making process.

Decision (Selected Action)

The National Park Service will implement the preferred alternative as described in the Final General Management Plan/Environmental Impact Statement issued in January 2001. Under the selected action, park managers will make several changes to proactively address impacts resulting from increased levels of visitor use in Zion National Park. The park will be zoned to ensure that resources are protected and opportunities are provided for a range of quality visitor experiences. Most of the park (90%) will continue to be recommended for wilderness designation and will be managed according to the provisions of the Wilderness Act. In the frontcountry no new major visitor facilities will be provided; however, small visitor facilities, such as picnic sites and restrooms, could be built in several areas, including the Kolob Canyons and the east entrance. Voluntary visitor shuttles may run along the Zion-Mt. Carmel Highway to the east entrance. The Zion Canyon Lodge will continue to operate as it has in the past. Part of the North Fork of the Virgin River in the main Zion Canyon will be restored to a more natural condition.

In the backcountry several management actions will be taken. Three existing research natural areas (21% of the park) will be deauthorized, while new research natural areas covering 6% of the park will be designated. Group size limits and new group encounter rates will be instituted as interim standards, pending the completion of a wilderness management plan. Park managers may need to limit or reduce visitor numbers on 12 trails and routes in the recommended wilderness, depending on visitor use levels, including part of the Narrows, Middle Fork of Taylor Creek, and La Verkin Creek. Only authorized research and NPS-guided educational groups will be allowed in 9,031 acres in mostly remote backcountry areas (including Parunuweap Canyon) due to their designation as research natural areas.

The selected action calls for the National Park Service to propose five Bureau of Land Management (BLM) areas, totaling approximately 950 acres, for transfer to the park. Nine access easements, totaling about 15 miles, and three conservation easements, totaling 2,220 acres, would be sought on private lands adjacent to the park. Congressional authorization would be required for all these actions.

Five streams and their tributaries in the park, and six tributaries on BLM lands adjacent to the park, will be recommended for inclusion in the national wild and scenic rivers system. The five streams in the park are: the North Fork of the Virgin River above and below the Temple of Sinawava, the East Fork of the Virgin River, North Creek, La Verkin Creek, and Taylor Creek. The tributaries extending from the park and partly on BLM lands are: Kolob Creek, Goose Creek, Shunes Creek, Willis Creek, Beartrap Canyon, and the Middle Fork of Taylor Creek. Congressional authorization will be required for inclusion of these streams and tributaries in the national wild and scenic rivers system.

Other Alternatives Considered

Three other alternatives for managing Zion National Park were evaluated in the draft and final environmental impact statements.

The no-action alternative provides a baseline for evaluating the changes and impacts of the three action alternatives. Under the no-action alternative, park managers would continue to manage Zion as it has in the past, relying on the 1977 master plan and related existing plans. No new construction or major changes would take place, except for previously approved developments. All of the park's existing facilities would continue to be operated and maintained as they have in the past. The three existing research natural areas would be managed as they have been in the past. Most of the park (90%) would continue to be recommended for wilderness and be managed under the provisions of the Wilderness Act.

Alternative A would provide opportunities for more widespread and increased use of Zion, providing opportunities for a range of visitor experiences, while protecting resources. New management zones would be applied throughout the front and backcountry to proactively manage visitor use. The upgrading or building of trails and the designation of new routes would improve access inside the park. Additional visitor facilities, including picnic areas, information facilities, and backcountry campsites, would be provided at Lava Point, the Kolob Canyons area, the east entrance area, and along the Kolob-Terrace Road and Zion-Mt. Carmel Highway. The Zion Canyon Lodge would continue to operate as it has as in the past. Part of the North Fork of the Virgin River in the main Zion Canyon would be restored to a more natural condition. Most of the park (90%) would continue to be recommended for wilderness designation and be managed according to the provisions of the Wilderness Act. Group size limits and new encounter rates would be instituted as interim standards in the backcountry. Depending on visitor use levels, park managers may need to limit or reduce visitor numbers in four areas in the recommended wilderness. New research natural areas, covering about 4% of the park, would be designated, while the three existing research natural areas would be deauthorized. Only authorized research and NPS-guided educational groups would be allowed on 6,145 acres in remote backcountry areas due to their designation as research natural areas. However, under this alternative Parunuweap Canyon would be open to limited NPS or NPS-sanctioned guided interpretive trips along the river.

Alternative B focuses on providing increased protection for park resources while still providing opportunities for a range of visitor experiences. Management zones would be applied throughout the front and backcountry to proactively manage visitor use. In the frontcountry a full-service visitor facility would be built near the east entrance, and a mandatory shuttle system would be implemented along the Zion-Mt. Carmel Highway. Alternative B would limit other new development in the park to a minimum. In several areas trailheads would be removed and trailhead parking would be reduced. The Zion Canyon Lodge would be converted to a research/environmental education facility. Part of the North Fork of the Virgin River in the main Zion Canyon would be restored to a more natural condition. The number and frequency of shuttles going from the Zion Canyon Lodge to the Temple of Sinawava would be reduced. As in all of the alternatives, most of the park (about 90%) would continue to be recommended for wilderness designation and would be managed according to provisions of the Wilderness Act. Limits on group size and new limits on encounter rates would be instituted as interim standards in the backcountry. Depending on visitor use levels, park managers may need to limit or reduce visitor numbers on 17 trails and routes in the recommended wilderness. About 14% of the park (including Parunuweap Canyon) would be designated as research natural areas, while the three existing research natural areas would be deauthorized. Only authorized research and NPS-guided educational groups would be allowed on 20,348 acres in mostly remote backcountry areas due to their designation as research natural areas.

Alternatives A and B are identical to the selected action in the following ways: (1) The BLM areas that would be proposed for transfer to the park; (2) the acquisition of access and conservation easements; and (3) the streams in the park and on adjacent BLM lands recommended for inclusion in the national wild and scenic rivers system.

Basis for Decision

The Organic Act established the National Park Service in order to “promote and regulate the use of parks. * * *” The Organic Act defined the purpose of the national parks as “to conserve the scenery and natural and historic objects and wildlife therein and to provide for the enjoyment of the same in such manner and by such means as will leave them unimpaired for the enjoyment of future generations.” The Organic Act provides overall guidance for the management of Zion National Park.

In reaching its decision to select the preferred alternative, the National Park Service considered the purposes for which Zion National Park was established, and other laws and policies that apply to lands in Zion National Park, including the Organic Act, the Wilderness Act, National Environmental Policy Act, existing formal agreements (e.g., the Zion National Park Water Rights Settlement Agreement), and the NPS Management Policies. The National Park Service also carefully considered public comments received during the planning process.

Each alternative in the General Management Plan presents a different framework for managing Zion National Park. As a result, each alternative would have different impacts on park resources and visitors.

Compared to all of the alternatives considered, the preferred alternative (selected action) best accomplishes protection of park resources and maintenance of a range of quality visitor experiences. The preferred alternative would have both positive and negative impacts on the park's natural resources, but most of the negative impacts would be minor and localized. The new management zones would help ensure that opportunities for experiencing solitude and natural quiet were available in most of the park, although the zones also may adversely affect some groups (e.g., saddle stock groups). Providing a few new small visitor facilities also would have minor, beneficial effects on visitor experiences.

Unlike the no-action alternative, the preferred alternative addresses many of the issues that have arisen since the master plan was approved in 1977, including management of the existing research natural areas, restoration of the North Fork of the Virgin River's floodplain, ensuring access to the park in several areas from adjacent lands, and protection of the park's scenic qualities along its boundaries. The preferred alternative provides a comprehensive approach for addressing impacts from increasing visitor use, particularly in the backcountry. In comparison, the no-action alternative does not fully address many of these issues or addresses them in a piecemeal fashion. As a result, the preferred alternative would have a lower potential than the no-action alternative for adverse impacts to such resources as Virgin spinedace habitat and desert bighorn sheep. Unlike the no-action alternative, restoring part of the North Fork of the Virgin River's floodplain would have beneficial effects on the river's values, riparian/wetland communities, and possibly southwestern willow flycatcher habitat. Also the preferred alternative would be expected to have a positive effect on most visitors' experiences, based on the application of the new management zones and the development of a few new visitor facilities. In contrast, the no-action alternative would likely result in a gradual decrease in the quality and range of recreational opportunities, increased crowding, declining condition of park resources, and diminished opportunities for quiet and solitude in areas not closely managed.

The preferred alternative would have a lower potential than alternative A for adverse impacts to natural resources in certain areas, such as the potential for impacts to the desert bighorn sheep range—there would be a greater potential in alternative A than in the preferred alternative for adverse impacts caused by increased visitor use within a large portion of the desert bighorn sheep range in canyons along the Zion-Mt. Carmel Highway. The preferred alternative also would have a lower potential than Alternative A for loss of microbiotic soils due to the amount of new development proposed and higher use levels. In addition, impacts to the natural soundscape would be lower under the preferred alternative than alternative A due to expected higher use levels in the former alternative.

Compared to alternative B, the preferred alternative would result in far fewer adverse impacts on visitor use and personal choice in much of the park. Unlike the preferred alternative, under alternative B there would be the potential for moderate to major adverse impacts to the experiences of many visitors. For example, there would be fewer opportunities in alternative B to experience Zion Canyon above the lodge, to stay overnight in the park, to ride horses, and to visit many parts of the backcountry.

Environmentally Preferable Alternative

Records of decision are required under Council on Environmental Quality regulations to identify the environmentally preferable alternative. Environmentally preferable is defined as “the alternative that will promote the national environmental policy as expressed in § 101 of the National Environmental Policy Act. Section 101 states that “* * *it is the continuing responsibility of the Federal Government to* * *(1) fulfill the responsibilities of each generation as trustee of the environment for succeeding generations; (2) assure for all Americans safe, healthful, productive, and aesthetically and culturally pleasing surroundings; (3) attain the widest range of beneficial uses of the environment without degradation, risk to heath or safety, or other undesirable and unintended consequences; (4) preserve important historic, cultural, and natural aspects of our national heritage, and maintain, wherever possible, an environment which supports diversity, and variety of individual choice; (5) achieve a balance between population and resource use which will permit high standards of living and a wide sharing of life's amenities; and (6) enhance the quality of renewable resources and approach the maximum attainable recycling of depletable resources.”

The environmentally preferable alternative is the NPS preferred alternative in the Final Zion National Park General Management Plan/Environmental Impact Statement because it surpasses the other alternatives in realizing the full range of national environmental policy goals in section 101. This alternative provides a high level of protection of natural and cultural resources while concurrently providing for a wide range of neutral and beneficial uses of the environment. The alternative maintains an environment that supports a diversity and variety of individual choices. And it integrates resource protection with an appropriate range of visitor uses.

The no-action alternative does not provide as much resource protection as the preferred alternative “ resource impacts would be expected to increase with increasing use levels, particularly in the backcountry. Visitor experience impacts also would likely increase under this alternative. Thus, compared to the preferred alternative, the no-action alternative does not meet as well national environmental policy goals 3 (attain the widest range of beneficial uses of the environment without degradation), 4 (preserve important natural aspects and maintain an environment that supports diversity and variety of individual choice), 5 (achieve a balance between population and resource use), and 6 (enhance the quality of renewable resources).

Alternative A provides for the greatest range of visitor experiences and access to Zion National Park. However, there would be a higher potential for impacts to natural resources under this alternative compared to the preferred alternative. Thus, alternative A does not meet policy goals 3 (attain the widest range of beneficial uses without degradation), 4 (preserve important natural aspects), and 6 (enhance the quality of renewable resources) to the same degree as the preferred alternative.

Although alternative B provides a higher level of resource protection than the preferred alternative, it restricts visitor experiences and thus does not fully achieve goals 3 (providing the widest range of beneficial uses of the environment without degradation) and 5 (achieving a balance between population and resource use) “ alternative B does not realize these national environmental policy goals to the same extent as the preferred alternative.

Findings on Impairment of Park Resources and Values

The National Park Service may not allow the impairment of park resources and values unless directly and specifically provided for by legislation or proclamation establishing the park. Impairment that is prohibited by the NPS Organic Act and the General Authorities Act is an impact that, in the professional judgment of the responsible NPS manager, would harm the integrity of park resources or values, including the opportunities that otherwise would be present for the enjoyment of those resources or values. In determining whether an impairment would occur, park managers examine the duration, severity and magnitude of the impact; the resources and values affected; and direct, indirect, and cumulative effects of the action. According to NPS policy, “An impact would be more likely to constitute an impairment to the extent that it affects a resource or value whose conservation is: a) Necessary to fulfill specific purposes identified in the establishing legislation or proclamation of the park; b) Key to the natural or cultural integrity of the park or to opportunities for enjoyment of the park; or c) Identified as a goal in the park's general management plan or other relevant NPS planning documents.”

This policy does not prohibit all impacts to park resources and values. The National Park Service has the discretion to allow impacts to park resources and values when necessary and appropriate to fulfill the purposes of a park, so long as the impacts do not constitute an impairment. Moreover, an impact is less likely to constitute an impairment if it is an unavoidable result, which cannot be further mitigated, of an action necessary to preserve or restore the integrity of park resources or values.

After analyzing the environmental impacts described in the Final General Management Plan / Environmental Impact Statement and public comments received, the National Pak Service has determined that implementation of the preferred alternative will not constitute an impairment to Zion National Park's resources and values. The actions comprising the preferred alternative are intended to protect and enhance the park's natural and cultural resources, and provide for high-quality visitor experiences. Overall, the alternative would have minor to moderate, beneficial effects on such resources as air quality, riparian/wetland communities, hanging gardens, and Virgin spinedace; major beneficial effects on the floodplain of the North Fork of the Virgin River; and a minor, positive effect on most visitors' experiences. From an overall, parkwide perspective, no major adverse impacts to the park's resources or the range of visitor experiences and no irreversible commitments of resources (other than the loss of soil) would be expected. While the alternative would have some adverse effects on park resources and visitor experiences, most of these impacts would be site-specific, minor to moderate, short-term impacts. There is the potential for moderate to major impacts to microbiotic soils due to developments and use, but these impacts would occur in relatively small, localized areas. Most park lands supporting microbiotic soils would not be subject to disturbance.

Some pack stock users and hikers may be displaced by the application of the new management zones. However, other destinations in the park are available to these groups. None of the impacts of this alternative would adversely affect resources or values to a degree that would prevent the National Park Service from fulfilling the purposes of the park, threaten the natural integrity of the park, or eliminate opportunities for people to enjoy the park.

Measures To Minimize Environmental Harm

Measures to avoid or minimize environmental harm that could result from implementation of the selected action have been identified and incorporated into the preferred alternative and are described in detail in the Final General Management Plan / Environmental Impact Statement. Natural resource mitigation measures are described in the “Park Policies and Practices” chapter, the description of the preferred alternative, and in the analysis of environmental impacts. Measures to minimize environmental harm include, but are not limited to: timing of trail openings/closures; restricting visitor activities at certain times and locations; siting projects and facilities in previously disturbed or developed locations; employing erosion control measures, restoration of habitats using native plant materials; visitor education programs, ranger patrols, erecting barriers and signs to reduce or prevent impacts; allowing only the use of weed-free materials and equipment in the park; conducting visitor surveys and monitoring visitor use patterns; monitoring changes in the condition of natural and cultural resources; monitoring construction activities; and consulting with the Utah state historical preservation officer and U.S. Fish and Wildlife Service when appropriate.

Public Involvement

The National Park Service provided numerous opportunities for the public to participate in the Zion National Park general management planning process. The planning team primarily used newsletters and workbooks to solicit public comments and suggestions for the plan. During the course of the planning process six newsletters and one workbook were sent to the park's mailing list, which consisted of over 1,000 names. Each of the newsletters and the workbook provided the opportunity for feedback and comments from the public. The planning team held three focus group meetings to gain public input on aircraft overflights, river recreation, and climbing/canyoneering. Meetings were also held with the Springdale Planning Commission, Southwest Utah Planning Authorities Council, Five County Association of Governments, the Utah Natural Resource Coordinating Committee, and the Utah Rural Summit. In addition, members of the planning team consulted with and sought the views of several agencies and governments, including the Kaibab Paiute, Moapa, and Paiute Indian Tribes, U.S. Fish and Wildlife Service, Bureau of Land Management, and the Utah state historic preservation officer.

The comment period on the draft plan initially ran from December 6, 1999, through February 11, 2000. A notice of availability was published in the December 6, 1999, Federal Register. After several requests were received, the comment period was extended to February 29, 2000. The planning team held five public meetings on the draft environmental impact statement from January 6 through January 13, 2000. Meetings were held in Cedar City, Springdale, Kanab, St. George, and Salt Lake City. Over 500 separate written responses were received during the comment period.

One individual and one business sent in comments on the Final General Management Plan/Environmental Impact Statement during the 30-day no-action period. The business, UtahMountainBiking.com, opposed the addition of the Rockville Bench area to the park because this action would close the Slickrock Swamp Trail to mountain bikes. The individual was concerned that the city of Springdale did not comment sufficiently on several issues in the plan. No new substantive issues were raised in the two comment letters.

The notice of availability for the final environmental impact statement was published in the May 8, 2001 Federal Register. The 30-day “no action” period ended on June 7, 2001.

Conclusion

Among the alternatives considered, the preferred alternative best protects the diversity of park resources while also maintaining a range of quality visitor experiences, meets NPS purposes and goals for managing Zion National Park, and meets national environmental policy goals. The preferred alternative would not result in the impairment of park resources and would allow the National Park Service to conserve park resources and provide for their enjoyment by visitors. The officials responsible for implementing the selected alternative are the Regional Director, Intermountain Region, and the Superintendent, Zion National Park.

Dated: June 18, 2001.
Michael D. Synder,
Acting Regional Director, Intermountain Region, National Park Service.

[FR Doc. 01-28711 Filed 11-15-01; 8:45 am]

BILLING CODE 4310-70-P